ENVIRONMENTAL PROTECTION AGENCY
[FRL-7615-5]
Teleconference Meeting of the National Drinking Water Advisory Council: Conference Call To Continue Discussion of the Formation of a Water Security Working Group

AGENCY:
Environmental Protection Agency.

ACTION:
Notice.

SUMMARY:
The U.S. Environmental Protection Agency (EPA) is announcing a teleconference meeting to continue discussion on the formation of a Water Security Working Group of the National Drinking Water Advisory Council (NDWAC). The EPA is designated as the lead agency for the security of the nation's drinking water and wastewater sectors. To assist these sectors in becoming more secure against terrorist threats, the Agency is proposing to develop best security practices for drinking water and wastewater facilities. The National Drinking Water Advisory Council (NDWAC) was established to provide practical and independent advice, consultation and recommendations to the Agency on the activities, functions and policies related to the implementation of the Safe Drinking Water Act. During the November 19-20, 2003, meeting, the NDWAC decided to forgo an official vote on the formation of the Water Security Working Group (WSWG) until there was an official charge before the members. It was decided that once members of NDWAC had the opportunity to review the charge for the proposed working group, a conference call would be held to continue discussion on the formation of the Water Security Working Group.
Subsequently, a draft charge for the Water Security Working Group was drawn up for NDWAC's consideration, as follows: To provide recommendations to the full NDWAC to: (1) Identify and prioritize a suite of best security practices for water utilities to improve security; (2) propose incentives to help facilitate a broad and receptive response amongst the water sector to implement these best practices; and (3) recommend mechanisms to recognize and measure the implementation of these best security practices. Upon completion of the charge, the WSWG will make recommendations to the full NDWAC.
EPA is hereby giving notice that a NDWAC teleconference meeting has been scheduled to review and discuss the draft charge, and to decide on the formation of the Water Security Working Group.

DATES:
The conference call is scheduled to take place at 11 a.m., Eastern Time, on February 10, 2004.

ADDRESSES:
Council members teleconference into Room 2123 of the EPA East Building, which is physically located at 1201 Constitution Avenue, NW., Washington, DC.

FOR FURTHER INFORMATION CONTACT:

Interested participants from the public should contact Marc Santora, Designated Federal Officer, U.S. Environmental Protection Agency, Office of Ground Water and Drinking Water, Water Security Division (Mail Code 4601-M), 1200 Pennsylvania Avenue, NW., Washington, DC, 20460. Please contact Marc Santora at santora.marc@epa.gov or call (202) 564-1597 to register and receive pertinent details such as the the telephone number and extension to participate in the conference call.

SUPPLEMENTARY INFORMATION:

The Council encourages the public's participation. A limited number of additional phone lines may be available for members of the public that are outside of the Washington, DC, metropolitan commuting area and are unable to attend in person. Any additional teleconferencing lines that are available will be reserved on a first-come, first-serve basis by the Designated Federal Officer. To ensure adequate time for public involvement, oral statements will be limited to five minutes, and it is preferred that only one person present the statement on behalf of a group or organization. Any person who wishes to file a written statement can do so before or after a Council meeting. Written statements received prior to the meeting will be distributed to all members of the Council before any final discussion or vote is completed. Any statements received after the meeting will become part of the permanent meeting file and will be forwarded to the Council members for their information. Any person needing special accommodations at this meeting, including wheelchair access, should contact the Designated Federal Officer, at the number or e-mail listed under the FOR FURTHER INFORMATION CONTACT section, at least five business days before the meeting so that appropriate arrangements can be made.

Dated: January 23, 2004.
Cynthia C. Dougherty,
Director, Office of Ground Water and Drinking Water.

[FR Doc. 04-1968 Filed 1-29-04; 8:45 am]
BILLING CODE 6560-50-P